DEPARTMENT OF TRANSPORTATION

Federal Aviation Administration

14 CFR Part 39

[Docket No. FAA-2010-1160; Directorate Identifier 2010-NM-148-AD; Amendment 39-17698; AD 2013-25-02]

RIN 2120-AA64

Airworthiness Directives; The Boeing Company Airplanes

AGENCY: Federal Aviation Administration (FAA), DOT.

ACTION: Final rule.

SUMMARY: We are superseding Airworthiness Directive (AD) 2000-11-06 for certain The Boeing Company Model 767 airplanes. AD 2000-11-06 required repetitive inspections to detect discrepancies of the wiring and surrounding Teflon sleeves of the fuel tank boost pumps and override/jettison pumps; replacement of the sleeves with new sleeves, for certain airplanes; and repair or replacement of the wiring and sleeves with new parts, as necessary. This new AD requires reducing the initial compliance time and repetitive inspection interval in AD 2000-11-06; mandates a terminating action for the repetitive inspections to eliminate wire damage; removes certain airplanes from the applicability; and requires revising the maintenance program to incorporate changes to the airworthiness limitations section. This AD was prompted by fleet information indicating that the repetitive inspection interval in AD 2000-11-06 is too long, because excessive chafing of the sleeving continues to occur much earlier than expected between scheduled inspections. We are issuing this AD to detect and correct chafing of the fuel pump wire insulation and consequent exposure of the electrical conductor, which could result in electrical arcing between the wires and conduit and consequent fire or explosion of the fuel tank.

DATES: This AD is effective June 5, 2014.

The Director of the Federal Register approved the incorporation by reference of certain publications listed in this AD as of June 5, 2014.

ADDRESSES: For service information identified in this AD, contact Boeing Commercial Airplanes, Attention: Data & Services Management, P.O. Box 3707, MC 2H-65, Seattle, Washington 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2010-1160; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Rebel Nichols, Aerospace Engineer, Propulsion Branch, ANM-140S, FAA, Seattle Aircraft Certification Office, 1601 Lind Avenue SW., Renton, Washington 98057-3356; phone: 425-917-6509; fax: 425-917-6590; email: rebel.nichols@faa.gov.

SUPPLEMENTARY INFORMATION:

Discussion

We issued a second supplemental notice of proposed rulemaking (SNPRM) to amend 14 CFR part 39 to supersede AD 2000-11-06, Amendment 39-11754 (65 FR 34928, June 1, 2000; corrected August 1, 2000 (65 FR 46862)). AD 2000-11-06 applied to certain The Boeing Company Model 767 airplanes. The second SNPRM published in the Federal Register on March 8, 2013 (78 FR 14934). We preceded the second SNPRM with a first SNPRM that published in the Federal Register on July 2, 2012 (77 FR 39188). We preceded the first SNPRM with a notice of proposed rulemaking (NPRM) that published in the Federal Register on December 14, 2010 (75 FR 77790). The NPRM was prompted by fleet information indicating that the repetitive inspection interval in AD 2000-11-06 is too long, because excessive chafing of the sleeving continues to occur much earlier than expected between scheduled inspections. The NPRM proposed to continue to require repetitive inspections to detect discrepancies of the wiring and surrounding Teflon sleeves of the fuel tank boost pumps and override/jettison pumps; replacement of the sleeves with new sleeves, for certain airplanes; and repair or replacement of the wiring and sleeves with new parts, as necessary. The NPRM also proposed to reduce the initial compliance time and repetitive inspection interval in AD 2000-11-06. The first SNPRM proposed to mandate a terminating action for the repetitive inspections, to eliminate wire damage. In addition, the first SNPRM proposed to remove certain airplanes from the applicability of AD 2000-11-06. The second SNPRM proposed to require revising the maintenance program to incorporate changes to the airworthiness limitations section. We are issuing this AD to detect and correct chafing of the fuel pump wire insulation and consequent exposure of the electrical conductor, which could result in electrical arcing between the wires and conduit and consequent fire or explosion of the fuel tank.

Comments

We gave the public the opportunity to participate in developing this AD. The following presents the comments received on the second SNPRM (78 FR 14934, March 8, 2013) and the FAA's response to each comment. Boeing concurred with the content of the second SNPRM.

Request To Allow Using Maintenance Manual Procedure for Repetitive Inspections

United Airlines (UAL) asked that paragraphs (g), (i)(2)(i)(C), (i)(2)(ii), and (k) of the second SNPRM (78 FR 14934, March 8, 2013) be changed to allow the use of Boeing 767 Airplane Maintenance Manual (AMM) 28-22-15/601 when accomplishing the repetitive inspections required by those paragraphs. UAL stated that Boeing has incorporated the intent of Boeing Service Bulletin 767-28A0053, Revision 3, dated November 11, 2011, into Boeing 767 AMM 28-22-15/601. (Boeing Service Bulletin 767-28A0053, Revision 3, dated November 11, 2011, was cited as an appropriate source of service information in the second SNPRM.)

We do not agree to change paragraphs (g), (i)(2)(i)(C), (i)(2)(ii), and (k) of this final rule to allow using Boeing 767 AMM 28-22-15/601 for accomplishing the required repetitive inspections. The procedures specified in that section of the AMM are not FAA-approved. In addition, it is possible that not all operators have a current version of the AMM in their maintenance programs; therefore, it is not possible for us to know which version of the AMM would be used for doing the inspections. Limiting the requirements to a specific AMM procedure and revision level would require an operator to get an approval of an alternative method of compliance (AMOC) for subsequent AMM revisions. Therefore, we have not changed this final rule in this regard.

Request To Clarify Certain Errors in the Service Information

UAL asked that the second SNPRM (78 FR 14934, March 8, 2013) refer to the correct figure callouts (which are identified incorrectly in Boeing Alert Service Bulletin 767-28A0104, Revision 1, dated March 2, 2012). UAL stated that paragraph (l) of the second SNPRM specifies using Boeing Alert Service Bulletin 767-28A0104, Revision 1, dated March 2, 2012, to perform terminating action for the repetitive inspections required by paragraphs (g) and (k) of the second SNPRM. UAL also noted that it made the same request in its comments on the first SNPRM (77 FR 39188, July 2, 1012). UAL added that these errors were confirmed by Boeing, but no revised service information has been issued to address these errors.

We agree with the commenter that the figure callouts are identified incorrectly in Boeing Alert Service Bulletin 767-28A0104, Revision 1, dated March 2, 2012; however, as we specified in a similar response in the first SNPRM (77 FR 39188, July 2, 2012), Boeing has not yet issued revised service information to correct the errors. These errors are minor and do not affect accomplishing the actions specified in the service information. When revised service information is issued, operators may request approval of an AMOC in accordance with the procedures specified in paragraph (p) of this AD. We have not changed this final rule in this regard.

Conclusion

We reviewed the relevant data, considered the comments received, and determined that air safety and the public interest require adopting this AD as proposed except for minor editorial changes. We have determined that these minor changes:

• Are consistent with the intent that was proposed in the second SNPRM (78 FR 14934, March 8, 2013) for correcting the unsafe condition; and

• Do not add any additional burden upon the public than was already proposed in the second SNPRM (78 FR 14934, March 8, 2013).

Costs of Compliance

We estimate that this AD affects 414 airplanes of U.S. registry.

We estimate the following costs to comply with this AD:

Estimated Costs
Action | Labor cost | Parts cost | Cost per product | Cost on U.S. operators
Actions for airplanes with jettison pumps [retained from AD 2000-11-06, Amendment 39-11754 (65 FR 34928, June 1, 2000; corrected August 1, 2000 (65 FR 46862)) | 7 work-hours × $85 per hour = $595 per inspection cycle | None | $595 per inspection cycle | Up to $246,330 per inspection cycle.
Actions for airplanes without jettison pumps [retained from AD 2000-11-06, Amendment 39-11754 (65 FR 34928, June 1, 2000; corrected August 1, 2000 (65 FR 46862)) | 5 work-hours × $85 per hour = $425 per inspection cycle | None | $425 per inspection cycle | Up to $175,950 per inspection cycle.
New replacement of wire bundles | 42 work-hours × $85 per hour = $3,570 | $6,061 | $9,631 | $3,987,234.
New revision to maintenance program | 1 work-hour × $85 per hour = $85 | None | $85 | $35,190.

We estimate the following costs to do any necessary repairs that would be required based on the results of the inspections. We have no way of determining the number of aircraft that might need these repairs:

On-Condition Costs
Action | Labor cost | Parts cost | Cost per product
Replacement of wire bundle sleeves | 1 work-hour × $85 per hour = $85 | $1,452 | $1,537

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2000-11-06, Amendment 39-11754 (65 FR 34928, June 1, 2000; corrected August 1, 2000 (65 FR 46862)), and adding the following new AD:

2013-25-02 The Boeing Company: Amendment 39-17698; Docket No. FAA-2010-1160; Directorate Identifier 2010-NM-148-AD.

(a) Effective Date

This AD is effective June 5, 2014.

(b) Affected ADs

This AD supersedes AD 2000-11-06, Amendment 39-11754 (65 FR 34928, June 1, 2000; corrected August 1, 2000 (65 FR 46862)).

(c) Applicability

(1) This AD applies to The Boeing Company Model 767-200, -300, -300F, and -400ER series airplanes, certificated in any category, as identified in Boeing Service Bulletin 767-28A0053, Revision 3, dated November 11, 2011.

(2) This AD requires revisions to certain operator maintenance documents to include new actions (e.g., inspections). Compliance with these actions is required by 14 CFR 91.403(c). For airplanes that have been previously modified, altered, or repaired in the areas addressed by this AD, the operator may not be able to accomplish the actions described in the revisions. In this situation, to comply with 14 CFR 91.403(c), the operator must request approval for an alternative method of compliance according to paragraph (p) of this AD. The request should include a description of changes to the required actions that will ensure the continued operational safety of the airplane.

(d) Subject

Air Transport Association (ATA) of America Code 28: Fuel.

(e) Unsafe Condition

This AD was prompted by fleet information indicating that the repetitive inspection interval in AD 2000-11-06, Amendment 39-11754 (65 FR 34928, June 1, 2000; corrected August 1, 2000 (65 FR 46862)) is too long because excessive chafing of the sleeving continues to occur much earlier than expected between scheduled inspections. We are issuing this AD to detect and correct chafing of the fuel pump wire insulation and consequent exposure of the electrical conductor, which could result in electrical arcing between the wires and conduit and consequent fire or explosion of the fuel tank.

(f) Compliance

Comply with this AD within the compliance times specified, unless already done.

(g) Retained Repetitive Inspections

This paragraph restates the requirements of paragraph (a) of AD 2000-11-06, Amendment 39-11754 (65 FR 34928, June 1, 2000; corrected August 1, 2000 (65 FR 46862)), with revised service information. Perform a detailed visual inspection to detect discrepancies—including the presence of cuts, splits, holes, worn areas, and lacing ties installed on the outside of the sleeves (except at the sleeve ends)—of the Teflon sleeves surrounding the wiring of the fuel tank boost pumps and override/jettison pumps, at the earlier of the times specified in paragraphs (g)(1) and (g)(2) of this AD, in accordance with Boeing Service Bulletin 767-28A0053, Revision 1, dated August 5, 1999; Boeing Alert Service Bulletin 767-28A0053, Revision 2, dated June 24, 2010; or Boeing Service Bulletin 767-28A0053, Revision 3, dated November 11, 2011. Repeat the inspection thereafter at intervals not to exceed 60,000 flight hours or 30,000 flight cycles, whichever occurs first. As of the effective date of this AD, only Boeing Service Bulletin 767-28A0053, Revision 3, dated November 11, 2011, may be used to do the actions required by this paragraph.

(1) Prior to the accumulation of 50,000 total flight hours, or within 90 days after July 6, 2000 (the effective date of AD 2000-11-06, Amendment 39-11754 (65 FR 34928, June 1, 2000; corrected August 1, 2000 (65 FR 46862)), whichever occurs later.

(2) Within 18 months after July 6, 2000 (the effective date of AD 2000-11-06, Amendment 39-11754 (65 FR 34928, June 1, 2000; corrected August 1, 2000 (65 FR 46862)).

(h) Retained Corrective Actions

This paragraph restates the requirements of paragraph (b) of AD 2000-11-06, Amendment 39-11754 (65 FR 34928, June 1, 2000; corrected August 1, 2000 (65 FR 46862)), with revised service information. If any discrepancy is detected during any inspection required by paragraph (g) of this AD: Prior to further flight, remove the Teflon sleeves and perform a detailed visual inspection to detect damage of the wiring, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Service Bulletin 767-28A0053, Revision 3, dated November 11, 2011, may be used to do the actions required by this paragraph.

(1) If no damage to the wiring is detected, prior to further flight, install new Teflon sleeves, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Service Bulletin 767-28A0053, Revision 3, dated November 11, 2011, may be used to do the actions required by this paragraph.

(2) If any damage to the wiring is detected, prior to further flight, accomplish the requirements of paragraph (i) of this AD.

(i) Retained Corrective Actions

This paragraph restates the requirements of paragraph (c) of AD 2000-11-06, Amendment 39-11754 (65 FR 34928, June 1, 2000; corrected August 1, 2000 (65 FR 46862)), with revised service information. If any damage to the wiring is detected during any inspection required by paragraph (h) of this AD: Prior to further flight, perform a detailed visual inspection to determine if the wiring damage was caused by arcing, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Service Bulletin 767-28A0053, Revision 3, dated November 11, 2011, may be used to do the actions required by this paragraph.

(1) If the wire damage was not caused by arcing: Prior to further flight, repair any damaged wires or replace the wires with new or serviceable wires, as applicable, and install new Teflon sleeves, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Service Bulletin 767-28A0053, Revision 3, dated November 11, 2011, may be used to do the actions required by this paragraph.

(2) If any damage caused by arcing is found: Prior to further flight, perform an inspection for signs of fuel inside the conduit or on the wires, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Service Bulletin 767-28A0053, Revision 3, dated November 11, 2011, may be used to do the actions required by this paragraph.

(i) If no sign of fuel is found, accomplish the actions specified in paragraphs (i)(2)(i)(A), (i)(2)(i)(B), (i)(2)(i)(C), and (i)(2)(i)(D) of this AD.

(A) Prior to further flight, repair the wires or replace the wires with new or serviceable wires, as applicable, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Service Bulletin 767-28A0053, Revision 3, dated November 11, 2011, may be used to do the actions required by this paragraph.

(B) Prior to further flight, install new Teflon sleeves, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Service Bulletin 767-28A0053, Revision 3, dated November 11, 2011, may be used to do the actions required by this paragraph.

(C) Repeat the inspection for signs of fuel inside the conduit thereafter at intervals not to exceed 500 flight hours, until the requirements of paragraph (i)(2)(i)(D) of this AD have been accomplished. If any fuel is found inside the conduit during any inspection required by this paragraph, prior to further flight, replace the conduit with a new or serviceable conduit, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. Thereafter, repeat the inspection specified in paragraph (g) of this AD at intervals not to exceed 60,000 flight hours or 30,000 flight cycles, whichever occurs first. As of the effective date of this AD, only Boeing Service Bulletin 767-28A0053, Revision 3, dated November 11, 2011, may be used to do the actions required by this paragraph.

(D) Within 6,000 flight hours or 18 months after the initial fuel inspection specified by paragraph (i)(2) of this AD, whichever occurs first, replace the conduit with a new or serviceable conduit, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. Such conduit replacement constitutes terminating action for the repetitive fuel inspections required by paragraph (i)(2)(i)(C) of this AD. As of the effective date of this AD, only Boeing Service Bulletin 767-28A0053, Revision 3, dated November 11, 2011, may be used to do the actions required by this paragraph.

(ii) If any fuel is found in the conduit or on any wire: Prior to further flight, replace the conduit with a new or serviceable conduit, replace damaged wires with new or serviceable wires, and install new Teflon sleeves; in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. Thereafter, repeat the inspection specified in paragraph (g) of this AD at intervals not to exceed 60,000 flight hours or 30,000 flight cycles, whichever occurs first. As of the effective date of this AD, only Boeing Service Bulletin 767-28A0053, Revision 3, dated November 11, 2011, may be used to do the actions required by this paragraph.

(j) Retained Pump Retest

This paragraph restates the requirements of paragraph (d) of AD 2000-11-06, Amendment 39-11754 (65 FR 34928, June 1, 2000; corrected August 1, 2000 (65 FR 46862)), with revised service information. For any wire bundle removed and reinstalled during any inspection required by this AD: Prior to further flight after such reinstallation, retest the fuel pump, in accordance with the Accomplishment Instructions of Boeing Service Bulletin 767-28A0053, Revision 1, dated August 5, 1999; Boeing Alert Service Bulletin 767-28A0053, Revision 2, dated June 24, 2010; or Boeing Service Bulletin 767-28A0053, Revision 3, dated November 11, 2011. As of the effective date of this AD, only Boeing Service Bulletin 767-28A0053, Revision 3, dated November 11, 2011, may be used to do the actions required by this paragraph.

(k) New Repetitive Inspections With Reduced Inspection Intervals

Do the inspection required by paragraph (g) of this AD at the time specified in paragraph (k)(1) or (k)(2) of this AD, as applicable, in accordance with the Accomplishment Instructions of Boeing Service Bulletin 767-28A0053, Revision 3, dated November 11, 2011. Repeat the inspection thereafter at intervals not to exceed 15,000 flight hours. Accomplishing the first inspection in this paragraph ends the repetitive inspection requirements in paragraph (g) of this AD.

(1) For airplanes on which the inspection required by paragraph (g) of this AD has been done as of the effective date of this AD: Do the inspection within 15,000 flight hours after the most recent inspection, or within 6,000 flight hours after the effective date of this AD, whichever occurs later, but not to exceed 60,000 flight hours after the most recent inspection required by paragraph (g) of this AD.

(2) For airplanes on which the inspection required by paragraph (g) of this AD has not been done as of the effective date of this AD: Do the inspection before the accumulation of 15,000 total flight hours, or within 6,000 flight hours after the effective date of this AD, whichever occurs later.

(l) New Terminating Action

Within 60 months after the effective date of this AD: Replace the fuel boost pump and override/jettison pump wire bundles inside the in-tank electrical conduit with a conduit liner and new wire bundles, in accordance with the Accomplishment Instructions of Boeing Alert Service Bulletin 767-28A0104, Revision 1, dated March 2, 2012. Accomplishing the replacement specified in this paragraph ends the repetitive inspection requirements in paragraphs (g) and (k) of this AD.

(m) Credit for Previous Actions

This paragraph provides credit for the actions required by paragraph (l) of this AD, if those actions were performed before the effective date of this AD using Boeing Alert Service Bulletin 767-28A0104, dated January 25, 2011, which is not incorporated by reference in this AD.

(n) New Maintenance Program Revision

Within 180 days after the effective date of this AD: Revise the maintenance program to incorporate Critical Design Configuration Control Limitations (CDCCL) Task 28-AWL-29, “In-Tank AC Fuel Pump Wire Bundles with Protective Liner;” and CDCCL Task 28-AWL-30, “Fuel Boost Pump Wires in Conduit Installation—In Fuel Tank;” of Section 9, of Boeing 767 Airworthiness Limitations (AWLs) and Certification Maintenance Requirements (CMRs), of the Boeing 767 Maintenance Planning Data (MPD) Document, D622T001-9, Revision October 2012.

(o) No Alternative Actions, Intervals, and/or CDCCLs

After accomplishing the revision required by paragraph (n) of this AD, no alternative actions (e.g., inspections), intervals, and/or CDCCLs may be used unless the actions, intervals, and/or CDCCLs are approved as an alternative method of compliance in accordance with the procedures specified in paragraph (p) of this AD.

(p) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (q)(1) of this AD. Information may be emailed to: 9-ANM-Seattle-ACO-AMOC-Requests@faa.gov.

(2) Before using any approved AMOC, notify your appropriate principal inspector, or lacking a principal inspector, the manager of the local flight standards district office/certificate holding district office.

(3) AMOCs approved previously for AD 2000-11-06, Amendment 39-11754 (65 FR 34928, June 1, 2000; corrected August 1, 2000 (65 FR 46862)), are approved as AMOCs for the corresponding provisions of this AD. Compliance time extensions approved previously for AD 2000-11-06 are not approved as AMOCs for the compliance times required by paragraph (k) of this AD.

(q) Related Information

(1) For more information about this AD, contact Rebel Nichols, Aerospace Engineer, Propulsion Branch, ANM-140S, FAA, Seattle Aircraft Certification Office, 1601 Lind Avenue SW., Renton, Washington 98057-3356; phone: 425-917-6509; fax: 425-917-6590; email: rebel.nichols@faa.gov.

(2) Service information identified in this AD that is not incorporated by reference in this AD may be obtained at the addresses specified in paragraphs (r)(4) and (r)(5) of this AD.

(r) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on June 5, 2014.

(i) Boeing Service Bulletin 767-28A0053, Revision 3, dated November 11, 2011.

(ii) Boeing Alert Service Bulletin 767-28A0104, Revision 1, dated March 2, 2012.

(iii) Section 9, of Boeing 767 Airworthiness Limitations (AWLs) and Certification Maintenance Requirements (CMRs), of the Boeing 767 Maintenance Planning Data (MPD) Document, D622T001-9, Revision October 2012:

(A) Critical Design Configuration Control Limitations (CDCCL) Task 28-AWL-29, “In-Tank AC Fuel Pump Wire Bundles with Protective Liner;”

(B) CDCCL Task 28-AWL-30, “Fuel Boost Pump Wires in Conduit Installation—In Fuel Tank.”

Note 1 to paragraph (r)(3)(iii) of this AD: CDCCL Task 28-AWL-29 and Task 28-AWL-30 were not revised in Revision October 2012 of Section 9, of Boeing 767 Airworthiness Limitations (AWLs) and Certification Maintenance Requirements (CMRs), of the Boeing 767 Maintenance Planning Data (MPD) Document, D622T001-9. These tasks were added in Revision May 2010; therefore, the page date for these tasks is May 2010.

(4) For service information identified in this AD, contact Boeing Commercial Airplanes, Attention: Data & Services Management, P.O. Box 3707, MC 2H-65, Seattle, Washington 98124-2207; telephone 206-544-5000, extension 1; fax 206-766-5680; Internet https://www.myboeingfleet.com.

(5) You may view this service information at the FAA, Transport Airplane Directorate, 1601 Lind Avenue SW., Renton, Washington. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on December 4, 2013.
John P. Piccola,
Acting Manager, Transport Airplane Directorate, Aircraft Certification Service.

[FR Doc. 2014-09094 Filed 4-30-14; 8:45 am]

BILLING CODE 4910-13-P